FEDERAL COMMUNICATIONS COMMISSION

[CC Docket No. 98-67; DA 05-1175]

National Exchange Carrier Association (NECA) Submits the Payment Formula and Fund Size Estimate for Interstate Telecommunications Relay Services (TRS) Fund for July 2005 Through June 2006

AGENCY: Federal Communications Commission.

ACTION: Notice.

SUMMARY: This document seeks public comment on the National Exchange Carrier Association's (NECA) proposed telecommunications relay service (TRS) compensation rates, fund size, and carrier contribution factor for the period July 1, 2005 through June 30, 2006.

DATES: Interested parties may file comments on or before May 13, 2005. Reply comments may be filed on or before May 25, 2005.

ADDRESSES: Federal Communications Commission, 445 12th Street, SW., Washington, DC 20554.

FOR FURTHER INFORMATION CONTACT: Dana Jackson, Consumer & Governmental Affairs Bureau, Disability Rights Office at (202) 418-2247 (voice), (202) 418-7898 (TTY), or e-mail at Dana.Jackson@fcc.gov.

SUPPLEMENTARY INFORMATION: This is a summary of the Commission's document DA 05-1175, released April 28, 2005. When filing comments, please reference CC Docket No. 98-67. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comment and reply comment to each docket or rulemaking number referenced in the caption. In completing the transmittal screen, commenters should include their full name, Postal Service mailing address, and the applicable docket or rulemaking number. Parties may also submit electronic comments and reply comments by Internet e-mail. To get filing instructions, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by electronic media, by commercial overnight courier, or by first-class or overnight U.S. Postal Services mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204 Washington, DC 20554.

Parties who choose to file by paper should also submit their comment and reply comments on diskette. These diskettes should be submitted, along with three paper copies, to: Dana Jackson, Consumer & Governmental Affairs Bureau, Disability Rights Office, 445 12th Street, SW., Room CY-C417, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CC Docket No. 98-67, type of pleading (comment and reply comment), date of submission, and the name of the electronic file on the diskette. The label should also include the following phrase “Disk Copy—Not an Original.” Each diskette should contain only one party's pleadings, preferably in a single electronic file. In addition, commenters must send diskette copies to the Commission's copy contractor, Best Copy and Printing (BCPI), Inc., Portals II, 445 12th Street, SW., Room CY-B402, Washington, DC 20554.

Pursuant to § 1.1206 of the Commission's rules, 47 CFR 1.1206, this proceeding will be conducted as a permit-but-disclose proceeding in which ex parte communications are subject to disclosure. A copy of this document, NECA's submission, and any subsequently filed documents in this matter will be available for public inspection and copying during regular business hours at the FCC Reference Information Center, Portals II, 445 12th Street, SW., Room CY-A257, Washington, DC 20554. This document, NECA's submission, and any subsequently filed documents in this matter may also be purchased from the Commission's duplicating contractor, BCPI, Inc. Customers may contact BCPI, Inc. at their Web site http://www.bcpiweb.com or call 1-800-378-3160. A copy of NECA's submission may also be found by searching on the Commission's Electronic Comment Filing System (ECFS) at http://www.fcc.gov/cgb/ecfs (insert CC Docket No. 98-67 into the Proceeding block). To request materials in accessible formats for people with disabilities (Braille, large print, electronic files, audio format), send an e-mail to fcc504@fcc.gov or call the Consumer & Governmental Affairs Bureau at (202) 418-0530 (voice), (202) 418-0432 (TTY). This document can also be downloaded in Word or Portable Document Format (PDF) at: http://www.fcc.gov/cgb/dro.

Synopsis

On April 25, 2005, pursuant to 47 CFR 64.604(c)(5)(iii)(H), the National Exchange Carrier Association (NECA), the Interstate Telecommunications Relay Services (TRS) Fund Administrator, submitted its annual payment formula and fund size estimate for the Interstate TRS Fund for the period July 1, 2005 through June 30, 2006. See Telecommunications Services for Individuals with Hearing and Speech Disabilities, and the Americans with Disabilities Act of 1990, Interstate Telecommunications Relay Services Fund Payment Formula and Fund Size Estimate (filed April 25, 2005) (2005 TRS Rate Filing).

NECA proposes a carrier contribution factor of 0.00528, and a fund size requirement of $413.3 million. NECA proposes per completed minute compensation rates of: $1.312 for traditional TRS and for Internet Protocol (IP) Relay (compared to $1.398 for the 2004-2005 fund year); $1.579 for Speech-to-Speech (STS) (compared to $1.596 for the 2004-2005 fund year); and $5.924 for Video Relay Service (VRS) (compared to $7.596 for the 2004-2005 fund year). In the 2004 TRS Report and Order and FNPRM, the Commission sought comment on whether the Commission should require the TRS Fund administrator to determine and propose separate compensation rates for IP Relay and traditional TRS. See Telecommunications Relay Services and Speech-to-Speech Services for Individuals with Hearing and Speech Disabilities, Report and Order, Order on Reconsideration, and Further Notice of Proposed Rulemaking, (2004 TRS Report and Order and FNPRM), CC Docket Nos. 90-571 and 98-67, CG Docket No. 03-123, 19 FCC Rcd 12475, pages 12564-12565, paragraph 233, June 30, 2004; published at 69 FR 53346 and 69 FR 53382, September 1, 2004.

NECA indicates that if the Commission did require separate compensation rates, NECA would propose an IP Relay rate of $1.278, and a traditional TRS rate of $1.440. We seek further comment on whether the Commission should adopt separate compensation rates for IP Relay and traditional TRS for the 2005-2006 fund year.

Federal Communications Commission.
Jay Keithley,
Deputy Bureau Chief, Consumer & Governmental Affairs Bureau.

[FR Doc. 05-9405 Filed 5-10-05; 8:45 am]

BILLING CODE 6712-01-P